SECURITIES AND EXCHANGE COMMISSION

Sunshine Act Meeting

Notice is hereby given, pursuant to the provisions of the Government in the Sunshine Act, Public Law 94-409, that the Securities and Exchange Commission will hold an Open Meeting on Wednesday, January 14, 2015 at 10:00 a.m., in the Auditorium, Room L-002.

The subject matter of the Open Meeting will be:

• The Commission will consider whether to adopt rules under the Securities Exchange Act of 1934 (“Exchange Act”) governing the security-based swap data repository (“SDR”) registration process, the duties of such repositories, and the core principles applicable to such repositories.

• The Commission will consider whether to adopt Regulation SBSR under the Exchange Act to provide for regulatory reporting of security-based swap information and the public dissemination of security-based swap transaction, volume, and pricing information by registered SDRs.

• The Commission will consider whether to propose certain new rules, rule amendments, and guidance to Regulation SBSR under the Exchange Act to address, among other things, the reporting duties for cleared and platform-executed security-based swap transactions.

The duty officer determined that no earlier notice thereof was possible.

At times, changes in Commission priorities require alterations in the scheduling of meeting items.

For further information and to ascertain what, if any, matters have been added, deleted, or postponed, please contact:

The Office of the Secretary at (202) 551-5400.

Dated: January 8, 2015.
Brent J. Fields,
Secretary.

[FR Doc. 2015-00418 Filed 1-9-15; 4:15 pm]

BILLING CODE 8011-01-P